NUCLEAR REGULATORY COMMISSION

[Docket No. 40-9073; NRC-2009-0364]

Notice of the Nuclear Regulatory Commission Issuance of Materials License SUA-1596 for Uranium One Americas, Inc. Moore Ranch In Situ Recovery Facility

AGENCY: Nuclear Regulatory Commission.

ACTION: Notice of issuance of materials license SUA-1596.

SUPPLEMENTARY INFORMATION: The Nuclear Regulatory Commission (NRC) has issued a license to Uranium One Americas, Inc. (Uranium One) for its Moore Ranch uranium in situ recovery (ISR) facility in Campbell County, Wyoming. Materials License SUA-1596 authorizes Uranium One to operate its facility as proposed in its license application, as amended, and to possess uranium source and 11.e(2) byproduct material at the Moore Ranch facility. Furthermore, Uranium One will be required to operate under the conditions listed in Materials License SUA-1596.

This notice also serves as the record of decision for the NRC decision granting the Uranium One application for the Moore Ranch facility and issuing Materials License SUA-1596. This record of decision satisfies the regulatory requirement in Section 51.102(a) of Title 10 of the Code of Federal Regulations, which requires a Commission decision on any action for which a final environmental impact statement has been prepared to be accompanied by or include a concise public record of decision.

The NRC has always considered that the entire publically available record for a license application as the agency's record of decision. Documents related to the application carry docket number 40-9073. These documents for the Moore Ranch ISR facility include the license application (including the applicant's environmental report) [ML072851218], the Commission's Safety Evaluation Report (SER) published in September 2010 [ML101310291] and the Commission's Final Supplemental Environmental Impaction Statement (FSEIS) (NUREG-1910, Supplement 1) published in August 2010 [ML102290470]. As discussed in the Moore Ranch FSEIS, the Commission considered a range of alternatives. The reasonable alternatives discussed in detail were the applicant's proposal as described in its license application to conduct in situ uranium recovery on the site and the no-action alternative. Other alternatives considered but eliminated from detailed analysis include conventional uranium mining and milling, conventional mining and heap leach processing, alternative site location, alternate lixiviants and alternate wastewater treatment methods. The factors considered when evaluating the alternatives, discussion of preferences among the alternatives, and license conditions and monitoring programs related to mitigation measures are also discussed in the Moore Ranch FSEIS.

The NRC has found that the application for the source material license complied with the standards and requirements of the Atomic Energy Act of 1954, as amended (the Act), and the Commission's regulations. As required by the Act and the Commission's regulations in 10 CFR 40.32(b-c), the staff has found that Uranium One is qualified by reason of training and experience to use source material for the purpose it requested; and that Uranium One's proposed equipment and procedures for use at its Moore Ranch facility are adequate to protect public health and minimize danger to life or property. The NRC staff's review supporting these findings is documented in the SER. The NRC staff has also concluded, in accordance with 10 CFR 40.32(d), that issuance of Materials License SUA-1596 to Uranium One will not be inimical to the common defense and security or to the health and safety of the public.

Uranium One's request for a materials license was previously noticed in the Federal Register on January 25, 2008 (73 FR 4642), with a notice of an opportunity to request a hearing. The NRC did not receive any requests for a hearing on the license application.

SUPPLEMENTARY INFORMATION: In accordance with 10 CFR 2.390 of the NRC's “Rules of Practice,” the details with respect to this action, including the SER and accompanying documentation and license, are available electronically at the NRC's Electronic Reading Room at http://www.nrc.gov/reading-rm/adams.html. From this site, you can access the NRC's Agencywide Document Access and Management System (ADAMS), which provides text and image files of NRC's public documents. The ADAMS accession numbers for the documents related to this notice are:

1 | Applicant's application, October 2, 2007 | ML072851218
2 | First Response to Request for Additional Information, July 11, 2008 | ML082060521
3 | Second Response to Request for Additional Information, October 28, 2008 | ML090370721
4 | First Open Issue Response, December 4, 2009 | ML093440347
5 | Second Open Issue Response, December 10, 2009 | ML093570333
6 | Third Open Issue Response, January 18, 2010 | ML100250919
7 | Generic Environmental Impact Statement for In Situ Leach Uranium Milling Facilities, May 2009 | ML091530075
8 | Supplemental Environmental Impact Statement for the Moore Ranch In Situ Recovery Project, August 2010. | ML102290470
9 | NRC Safety Evaluation Report, September 2010 | ML101310291
10 | Source Materials License for the Moore Ranch, September 28, 2010 | ML102345678

If you do not have access to ADAMS, or if there are problems in accessing the documents located in ADAMS, contact the NRC Public Document Room (PDR) Reference staff at 1-800-397-4209, 301-415-4737, or via e-mail to PDR.Resource@nrc.gov.

These documents may also be viewed electronically on the public computers located at the NRC's PDR, O 1 F21, One White Flint North, 11555 Rockville Pike, Rockville, MD 20852. The PDR reproduction contractor will copy documents for a fee.

FOR FURTHER INFORMATION CONTACT: Douglas T. Mandeville, Project Manager, Uranium Recovery Licensing Branch, Decommissioning and Uranium Recovery Licensing Directorate, Division of Waste Management and Environmental Protection, Office of Federal and State Materials and Environmental Management Programs, U.S. Nuclear Regulatory Commission, Washington, DC 20555. Telephone: (301) 415-0724; fax number: (301) 415-5369; e-mail: douglas.mandeville@nrc.gov.

Dated at Rockville, Maryland, this 30th day of September 2010.
For the Nuclear Regulatory Commission.
Keith I. McConnell,
Deputy Director, Decommissioning and Uranium Recovery Licensing Directorate, Division of Waste Management and Environmental Protection, Office of Federal and State Materials and Environmental Management Programs.

[FR Doc. 2010-25274 Filed 10-6-10; 8:45 am]

BILLING CODE 7590-01-P